DEPARTMENT OF LABOR

Employment and Training Administration

[TA-W-81,009]

Birds Eye Foods, LLC; Fulton, NY Plant; A Wholly-Owned Subsidiary of Pinnacle Foods Group LLC; Including On-Site Leased Workers From W L Staff Svces., Inc. and Bemsa Holdings, Inc.; Fulton, New York; Amended Certification Regarding Eligibility To Apply for Worker Adjustment Assistance

In accordance with Section 223 of the Trade Act of 1974, as amended (“Act”), 19 U.S.C. 2273, the Department of Labor issued a Certification of Eligibility to Apply for Worker Adjustment Assistance on December 21, 2011, applicable to workers and former workers of Birds Eye Foods, LLC, Fulton, NY Plant, a wholly-owned subsidiary of Pinnacle Foods Group LLC, including on-site leased workers from W L Staff Svces., Inc., Fulton, New York (subject firm). The Department's notice of determination was published in the Federal Register on January 12, 2012 (77 FR 1951).

At the request of the State Workforce Office, the Department reviewed the certification for workers of the subject firm. The workers were engaged in the production of frozen vegetable (in three types of cardboard box and plastic packaging: Steamfresh®, Box Sauce, and XL Poly), frozen complete bagged meals (vegetable, protein, starch, and sauce), and frozen fruit products.

The subject firm reports that workers from BEMSA Holdings, Inc. were employed on-site at the Fulton, New York location of Birds Eye Foods, LLC. The Department has determined that these workers were sufficiently under the control of the subject firm to be considered leased workers. Based on these findings, the Department is amending this certification to include workers leased from BEMSA Holdings, Inc. working on-site at the Fulton, New York location of Birds Eye Foods, LLC.

The amended notice applicable to TA-W-81,009 is hereby issued as follows:

“All workers of Birds Eye Foods, LLC, Fulton, NY Plant, a wholly-owned subsidiary of Pinnacle Foods Group LLC, including on-site leased workers from W L Staff Svces., Inc. and BEMSA Holdings, Inc., Fulton, New York, who became totally or partially separated from employment on or after February 13, 2010, through December 21, 2013, and all workers in the group threatened with total or partial separation from employment on the date of certification through two years from the date of certification, are eligible to apply for adjustment assistance under Chapter 2 of Title II of the Trade Act of 1974, as amended.”

Signed in Washington, DC this 9th day of May, 2012.
Del Min Amy Chen,
Certifying Officer, Office of Trade Adjustment Assistance .

[FR Doc. 2012-25527 Filed 10-16-12; 8:45 am]

BILLING CODE 4510-FN-P